DEPARTMENT OF HOMELAND SECURITY

Coast Guard

33 CFR Part 165

[Docket No. USCG-2021-0889]

Safety Zones; Alderbrook Resort New Year's Fireworks Display, Hood Canal, Washington

AGENCY: Coast Guard, DHS.

ACTION: Notice of enforcement of regulation.

SUMMARY: The Coast Guard will enforce a safety zone surrounding the Alderbrook Resort dock involved in a fireworks display in Hood Canal, WA, from December 31, 2021, through January 1, 2022. This action is necessary to ensure the safety of the maritime public and vessels associated with the fireworks display. During the enforcement period, entry into the safety zone is prohibited, unless authorized by the Captain of the Port Sector Puget Sound or their Designated Representative.

DATES: The regulations in 33 CFR 165.1332 will be enforced for the safety zone identified in the SUPPLEMENTARY INFORMATION section below from 5 p.m. on December 31, 2021, through 1 a.m. on January 1, 2022.

FOR FURTHER INFORMATION CONTACT: If you have questions about this notice of enforcement, call or email Mr. Rob Nakama, Sector Puget Sound Waterways Management Division, U.S. Coast Guard; telephone 206-217-6051, email SectorPugetSoundWWM@uscg.mil.

SUPPLEMENTARY INFORMATION: The Coast Guard will enforce regulations in 33 CFR 165.1332 for the safety zone established for Annual Fireworks Displays in Hood Canal set forth in 33 CFR 165.1332, from 5 p.m. on December 31, 2021, through 1 a.m. on January 1, 2022, at the following location:

Event name | Location | Latitude | Longitude
Alderbrook Resort & Spa Fireworks | Hood Canal | 47°21.033′ N | 123°04.1′ W

Under the provisions of 33 CFR 165.1332 entry into, transit through, mooring, or anchoring within the specific race area is prohibited unless authorized by the Captain of the Port Sector Columbia River or their designated representatives. All persons or vessels who desire to enter the race area while it is enforced must obtain permission from the on-scene patrol craft on VHF-FM channel 13 or 16. In addition to this notice of enforcement in the Federal Register, the Coast Guard plans to provide notification of this enforcement period via a Broadcast Notice to Mariners and the Local Notice to Mariners.

Dated: December 7, 2021.
P.M. Hilbert,
Captain, U.S. Coast Guard, Captain of the Port Sector Puget Sound.

[FR Doc. 2021-26909 Filed 12-10-21; 8:45 am]

BILLING CODE 9110-04-P